DEPARTMENT OF COMMERCE

International Trade Administration

[A-357-818]

Agreement Suspending the Antidumping Duty Investigation on Lemon Juice From Argentina; Preliminary Results of 2022-2023 Administrative Review

AGENCY: Enforcement & Compliance, International Trade Administration, Department of Commerce.

SUMMARY: The U.S. Department of Commerce (Commerce) preliminarily determines that the respondents selected for individual examination, Argenti Lemon S.A. (Argenti Lemon), Citromax S.A.C.I (Citromax), and SA San Miguel A.G.I.C.I. y F (San Miguel), complied with the 2016 Agreement Suspending the Antidumping Duty Investigation on Lemon Juice from Argentina (2016 Agreement), for the period of review (POR) October 1, 2022, through September 31, 2023. Commerce also preliminarily determines that the 2016 Agreement met the statutory requirements under sections 734(c) and (d) of the Tariff Act of 1930, as amended (the Act) during the POR.

DATES: Applicable November 13, 2024.

FOR FURTHER INFORMATION CONTACT: Jill Buckles, Enforcement & Compliance, International Trade Administration, U.S. Department of Commerce, 1401 Constitution Avenue NW, Washington, DC 20230, telephone: (202) 482-6230.

SUPPLEMENTARY INFORMATION:

Background

On October 20, 2016, Commerce signed an agreement under section 734(c) of the Act, with representatives of Argentine lemon juice producers/exporters accounting for substantially all imports of lemon juice from Argentina, suspending the antidumping duty (AD) investigation on lemon juice from Argentina.¹

¹ See Lemon Juice from Argentina: Continuation of Suspension of Antidumping Investigation, 81 FR 74395 (October 26, 2016) (2016 Agreement).

On October 30, 2023, Ventura Coastal, LLC (petitioner) filed a request for an administrative review of the 2016 Agreement.² Commerce published a notice of its initiation of the administrative review of the 2016 Agreement on December 6, 2023.³ On January 23, 2024, Commerce selected three companies as mandatory respondents, listed in alphabetical order: Argenti Lemon, Citromax, and San Miguel.⁴

² See Petitioner's Letter, “Request for Administrative Review,” dated October 30, 2023.

³ See Initiation of Antidumping and Countervailing Duty Administrative Reviews, 88 FR 84784 (December 6, 2023).

⁴ See Memorandum, “Respondent Selection,” dated January 23, 2024 (Respondent Selection Memorandum).

On May 30, 2024, Commerce extended the deadline for completing the preliminary results of this review until October 30, 2024.⁵ On July 22, 2024, Commerce tolled certain deadlines in this administrative proceeding by seven days.⁶ The deadline for the preliminary results is now November 6, 2024. For a complete description of the events between the initiation of this review and these preliminary results, see the Preliminary Decision Memorandum.⁷

⁵ See Memorandum, “Extension of Deadline for Preliminary Results of the 2023-2024 Administrative Review of the 2016 Agreement Suspending the Antidumping Duty Investigation on Lemon Juice from Argentina,” dated May 30, 2023.

⁶ See Memorandum, “Tolling of Deadlines for Antidumping and Countervailing Duty Proceedings,” dated July 22, 2024.

⁷ See Memorandum, “Decision Memorandum for the Preliminary Results of the 2022-2023 Administrative Review: Lemon Juice from Argentina,” dated concurrently with, and hereby adopted by, this notice (Preliminary Decision Memorandum).

Scope of the 2016 Agreement

Merchandise covered by the 2016 Agreement is typically classified under the following subheadings of the Harmonized Tariff Schedules of the United States (HTSUS), according to the season of importation: 2009.39.6020, 2009.31.6020, 2009.31.4000, 2009.31.6040, and 2009.39.6040. The tariff classifications are provided for convenience and customs purposes; however, the written description of the scope of this 2016 Agreement is dispositive. For a complete description of the scope of the 2016 Agreement, see the Preliminary Decision Memorandum.

Methodology and Preliminary Results

Commerce has conducted this review in accordance with section 751(a)(1)(C) of the Act, which specifies that Commerce shall “review the current status of, and compliance with, any agreement by reason of which an investigation was suspended.” In this case, Commerce and representatives of the Argentine lemon juice producers/exporters accounting for substantially all imports of lemon juice from Argentina signed the 2016 Agreement, which suspended the underlying antidumping duty investigation, on October 20, 2016. Pursuant to the 2016 Agreement, the Argentine signatories agreed to sell subject merchandise at or above certain minimum reference prices, and that their pricing would eliminate at least 85 percent of the dumping determined in the AD investigation.⁸ The Argentine signatories also agreed to provide documentation upon request from Commerce,⁹ provide certifications each quarter,¹⁰ and provide Argentine customs data each quarter ¹¹ to allow Commerce to monitor the 2016 Agreement.

⁸ See 2016 Agreement at Section VI and Appendix I.

⁹ Id. at Sections VII.B.1, VII.B.2, and VII.B.4.

¹⁰ Id. at Section VII.C.3.

¹¹ Id. at Section VII.A.3.

After reviewing the information received from the mandatory respondents in their initial and supplemental questionnaire responses, we preliminarily determine that the mandatory respondents complied with the requirements of the 2016 Agreement during the POR. Additionally, we preliminarily determine that the 2016 Agreement functioned as intended and that the 2016 Agreement continued to meet the statutory requirements under sections 734(c) and (d) of the Act during the POR.

For a full description of the analysis underlying our conclusions, see the Preliminary Decision Memorandum. A list of topics discussed in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Verification

As provided in section 782(i)(3) of the Act, Commerce intends to verify the information relied upon in making its final determination.

Public Comment

Interested parties may submit case briefs not later than seven days after the date on which the last verification report is issued in this administrative review.¹² Rebuttal briefs, limited to issues raised in case briefs, may be submitted no later than five days after the date for filing case briefs.¹³ Interested parties who submit case briefs or rebuttal briefs in this proceeding must submit: (1) a table of contents listing each issue; and (2) a table of authorities.¹⁴

¹² See 19 CFR 351.309(c)(1)(ii).

¹³ See 19 CFR 351.309(d); see also Administrative Protective Order, Service, and Other Procedures in Antidumping and Countervailing Duty Proceedings, 88 FR 67069, 67077 (September 29, 2023) (APO and Service Final Rule).

¹⁴ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁵ Further, we request that interested parties limit their public executive summary of each issue to no more than 450 words, not including citations. We intend to use the public executive summaries as the basis of the comment summaries included in the issues and decision memorandum that will accompany the final results in this administrative review. We request that interested parties include footnotes for relevant citations in the executive summary of each issue. Note that Commerce has amended certain of its requirements pertaining to the service of documents in 19 CFR 351.303(f).¹⁶

¹⁵ We use the term “issue” here to describe an argument that Commerce would normally address in a comment of the Issues and Decision Memorandum.

¹⁶ See APO and Service Final Rule.

Pursuant to 19 CFR 351.310(c), interested parties who wish to request a hearing, limited to issues raised in the case and rebuttal briefs, must submit a written request to the Assistant Secretary for Enforcement and Compliance, filed electronically via ACCESS. Requests should contain: (1) the party's name, address, and telephone number; (2) the number of participants; and (3) a list of issues to be discussed. An electronically filed hearing request must be received successfully in its entirety by Commerce's electronic records system, ACCESS, by 5 p.m. Eastern Time within 30 days after the date of publication of this notice.

Final Results of Review

Commerce intends to issue the final results of this administrative review, including the results of its analysis of the issues raised in any written briefs, not later than 120 days after the date of publication of this notice, pursuant to section 751(a)(3)(A) of the Act, unless extended.

Notification to Interested Parties

We are issuing and publishing these results in accordance with sections 751(a)(1) and 777(i)(1) of the Act.

Dated: November 6, 2024.
Abdelali Elouaradia,
Deputy Assistant Secretary for Enforcement and Compliance.

Appendix

List of Topics Discussed in the Preliminary Decision Memorandum

I. Summary

II. Background

III. Scope of the 2016 Agreement

IV. Preliminary Results of Review

V. Recommendation

[FR Doc. 2024-26261 Filed 11-12-24; 8:45 am]

BILLING CODE 3510-DS-P